DEPARTMENT OF LABOR

Employment and Training Administration

[NAFTA-05190 and NAFTA-05190A]

Sequa Corporation Men's Apparel Group Athens, Georgia; Sequa Corporation Men's Apparel Group Corporate Office Hackensack, New Jersey; Amended Certification Regarding Eligibility To Apply for NAFTA-Transitional Adjustment Assistance

In accordance with section 250(A), Subchapter D, Chapter 2, Title II, of the Trade Act of 1974 (19 USC 2273), the Department of Labor issued a Certification for NAFTA Transitional Adjustment Assistance on September 25, 2001, applicable to workers of Sequa Corporation, Men's Apparel Group, Athens, Georgia. The notice published in the Federal Register on October 11, 2001 (66 FR 51974).

At the request of the company, the Department reviewed the certification for workers of the subject firm. Information provided by the company shows that worker separations have occurred at the Corporate Office, Hackensack, New Jersey location of the subject firm. The Corporate Office provides administrative support function services including sales and marketing for the Men's Apparel Group of the subject firm.

Based on these findings, the Department is amending the certification to include workers of the Corporate Office, Hackensack, New Jersey location of Sequa Corporation, Men's Apparel Group.

The intent of the Department's certification is to include all workers of Sequa Corporation, Men's Apparel Group adversely affected by an increase of imports from Mexico.

The amended notice applicable to NAFTA-05190 is hereby issued as follows:

All workers of Sequa Corporation, Men's Apparel Group, Athens, Georgia (NAFTA-5190) and Sequa Corporation, Men's Apparel Group, Corporate Office, Hackensack, New Jersey (NAFTA-5190A) who became totally or partially separated from employment on or after August 10, 2000, through September 25, 2003, are eligible to apply for NAFTA-TAA under section 250 of the Trade Act of 1974.

Signed at Washington, DC, this 28th day of January, 2002.
Linda G. Poole,
Certifying Officer, Division of Trade Adjustment Assistance.

[FR Doc. 02-2696 Filed 2-4-02; 8:45 am]

BILLING CODE 4510-30-M